DEPARTMENT OF COMMERCE

Foreign-Trade Zones Board

[B-58-2015]

Foreign-Trade Zone (FTZ) 133—Quad-Cities, Iowa/Illinois; Authorization of Production Activity; CNH Industrial America, LLC; Subzone 133E, (Agricultural and Construction Equipment, Subassemblies and Kits), Burlington and West Burlington, Iowa

On September 2, 2015, CNH Industrial America, LLC, operator of Subzone 133E, submitted a notification of proposed production activity to the Foreign-Trade Zones (FTZ) Board for its facilities within Subzone 133E, in Burlington and West Burlington, Iowa.

The notification was processed in accordance with the regulations of the FTZ Board (15 CFR part 400), including notice in the Federal Register inviting public comment (80 FR 54519, September 10, 2015). The FTZ Board has determined that no further review of the activity is warranted at this time. The production activity described in the notification is authorized, subject to the FTZ Act and the Board's regulations, including Section 400.14.

Dated: December 31, 2015.
Andrew McGilvray,
Executive Secretary.

[FR Doc. 2016-00363 Filed 1-8-16; 8:45 am]

BILLING CODE 3510-DS-P